DEPARTMENT OF LABOR

Occupational Safety and Health Administration

[Docket No. OSHA-2018-0005]

Aviation Industry Whistleblower Stakeholder Meeting

AGENCY: Occupational Safety and Health Administration (OSHA), Labor.

ACTION: Notice of public meeting.

SUMMARY: The Occupational Safety and Health Administration (OSHA) is announcing a public meeting to solicit comments and suggestions from stakeholders on issues facing the agency in the administration of the whistleblower protection provisions under the Wendell H. Ford Aviation Investment and Reform Act for the 21st Century (AIR21).

DATES: The public meeting will be held on October 8, 2019, from 1:00 p.m. to 3:00 p.m., ET. Persons interested in attending the meeting must register by September 24, 2019. In addition, comments relating to the “Scope of Meeting” section of this document must be submitted in written or electronic form by September 30, 2019.

ADDRESSES: The public meeting will be held in Room N-4437 A-D, U.S. Department of Labor, 200 Constitution Avenue NW, Washington, DC 20210.

Written Comments: Submit written comments to the OSHA Docket Office, Docket No. OSHA-2018-0005, Room N-3653, U.S. Department of Labor, 200 Constitution Avenue NW, Washington, DC 20210; telephone (202) 693-2350. You may submit materials, including attachments, electronically at http://www.regulations.gov, which is the Federal eRulemaking Portal. Follow the on-line instructions for submissions. All comments should be identified with Docket No. OSHA-2018-0005.

Registration to Attend and/or to Participate in the Meeting: If you wish to attend the public meeting, make an oral presentation at the meeting, or participate in the meeting via telephone, you must register using this link https://www.eventbrite.com/e/aviation-industry-whistleblower-stakeholder-meeting-tickets-65421231665 by close of business on September 24, 2019. Participants may speak and hand out written materials, but there will not be an opportunity to give an electronic presentation. Actual times provided for presentation will depend on the number of requests, but no more than 10 minutes per participant. There is no fee to register for the public meeting. Registration on the day of the public meeting will be permitted on a space-available basis beginning at 12:00 p.m., ET. After reviewing the requests to present, each participant will be contacted prior to the meeting with the approximate time that the participant's presentation is scheduled to begin.

FOR FURTHER INFORMATION CONTACT: For press inquiries: Mr. Frank Meilinger, Director, OSHA Office of Communications, U.S. Department of Labor; telephone (202) 693-1999; email meilinger.francis2@dol.gov.

For general information: Mr. Anthony Rosa, Deputy Director, OSHA Directorate of Whistleblower Protection Programs, U.S. Department of Labor; telephone (202) 693-2199; email osha.dwpp@dol.gov.

SUPPLEMENTARY INFORMATION:

Scope of Meeting

OSHA is interested in obtaining information from the public on key issues facing the agency's whistleblower program. This meeting is the fourth in a series of meetings requesting public input on this program. For this meeting, OSHA is focusing on issues relating to whistleblower protection under the Wendell H. Ford Aviation Investment and Reform Act for the 21st Century (AIR21). In particular, the agency invites input on the following:

1. How can OSHA deliver better whistleblower customer service?

2. What kind of assistance can OSHA provide to help explain the whistleblower laws it enforces?

3. Are there any safety issues in the airline industry that you think the agency needs to be aware of?

Request for Comments

Regardless of attendance at the public meeting, interested persons may submit written or electronic comments (see ADDRESSES). Submit a single copy of electronic comments or two paper copies of any mailed comments. To permit time for interested persons to submit data, information, or views on the issues in the “Scope of Meeting” section of this notice, submit comments by September 30, 2019, please include Docket No. OSHA-2018-0005. Comments received may be seen in the OSHA Docket Office, (see ADDRESSES), between 10:00 a.m. and 3:00 p.m., ET, Monday through Friday.

Access to the Public Record

Electronic copies of this Federal Register notice are available at http://www.regulations.gov. This notice, as well as news releases and other relevant information, also are available on the Directorate of Whistleblower Protection Programs' web page at: http://www.whistleblowers.gov.

Authority and Signature

Loren Sweatt, Principal Deputy Assistant Secretary for Occupational Safety and Health, authorized the preparation of this notice under the authority granted by Secretary's Order 01-2012 (Jan. 18, 2012), 77 FR 3912 (Jan. 25, 2012), and 49 U.S.C. 42121.

Signed at Washington, DC, on August 14, 2019.
Loren Sweatt,
Principal Deputy Assistant Secretary of Labor for Occupational Safety and Health.

[FR Doc. 2019-17826 Filed 8-19-19; 8:45 am]

BILLING CODE 4510-26-P